DEPARTMENT OF HEALTH AND HUMAN SERVICES

Centers for Medicare & Medicaid Services

42 CFR Parts 422 and 423

[CMS-4192-CN]

RIN 0938-AU30

Medicare Program; Contract Year 2023 Policy and Technical Changes to the Medicare Advantage and Medicare Prescription Drug Benefit Programs; Correction

AGENCY: Centers for Medicare & Medicaid Services (CMS), Department of Health and Human Services (HHS).

ACTION: Proposed rule; correction.

SUMMARY: This document corrects technical errors that appeared in the proposed rule published in the Federal Register on January 12, 2022 entitled “Medicare Program; Contract Year 2023 Policy and Technical Changes to the Medicare Advantage and Medicare Prescription Drug Benefit Programs.”

FOR FURTHER INFORMATION CONTACT:

Marna Metcalf-Akbar, (410) 786-8251.

Melissa Seeley, (212) 616-2329.

SUPPLEMENTARY INFORMATION:

I. Background

In FR Doc. 2022-00117 of January 12, 2022 (87 FR 1842), there were several technical errors that are identified and corrected in this correcting document.

II. Summary of Errors

On page 1899, in discussion of the proposed regulations text changes for the assessment of past performance, we made an error in a regulatory citation.

On page 1925, in our discussion of the information collection requirements for limiting certain Medicare Advantage contracts to dual special needs plans (D-SNPs), we inadvertently omitted language regarding when we will submit information on the number of respondents and the time estimates to the public and OMB.

III. Correction of Errors

In FR Doc. 2022-00117 of January 12, 2022 (87 FR 1842), make the following corrections:

1. On page 1899, first column, first full paragraph, line 3, the reference “§ 422.505(n)” is corrected to read “§ 423.505(n)”.

2. On page 1925, first column, after the first full paragraph that begins with the phrase “The burden for an initial Part D”, the text is corrected by adding the following paragraph to read as follows:

“While we anticipate changes to the number of respondents and our active time estimates for the Part C and Part D applications, if this proposal is finalized we would revise control numbers 0938-0935 (CMS-10237) and 0938-0936 (CMS-10137) for the 2025 plan year application and prior to the effective date of the requirement. The CMS-10237 and CMS-10137 collection of information materials would be made available to the public for review/comment under the standard PRA process which includes the publication of 60- and 30-day Federal Register notices and the posting of the collection of information documents on our PRA website.”

Karuna Seshasai,
Executive Secretary to the Department, Department of Health and Human Services.

[FR Doc. 2022-03966 Filed 2-24-22; 8:45 am]

BILLING CODE 4120-01-P